DEPARTMENT OF ENERGY

Federal Energy Regulatory Commission

Combined Notice of Filings #1

Take notice that the Commission received the following electric corporate filings:

Docket Numbers: EC21-74-000.

Applicants: Arthur Kill Power LLC, Connecticut Jet Power LLC, Devon Power LLC, Long Beach Generation LLC, Middletown Power LLC, Montville Power LLC, Oswego Harbor Power LLC, Sunrise Power Company, LLC, NRG Power Marketing LLC, Generation Bridge Acquisition, LLC.

Description: Joint Application for Authorization Under Section 203 of the Federal Power Act of Arthur Kill Power LLC, et al.

Filed Date: 4/6/21.

Accession Number: 20210406-6163.

Comments Due: 5 p.m. ET 6/7/21.

Take notice that the Commission received the following electric rate filings:

Docket Numbers: ER21-1018-001.

Applicants: New York Independent System Operator, Inc.

Description: Tariff Amendment: Deficiency Response—Operating and Supplemental Reserves to be effective 12/31/9998.

Filed Date: 4/7/21.

Accession Number: 20210407-5241.

Comments Due: 5 p.m. ET 4/28/21.

Docket Numbers: ER21-1630-000.

Applicants: PJM Interconnection, L.L.C.

Description: Tariff Cancellation: Notice of Cancellation of WMPA, SA No. 4846; Queue No. AC2-144 to be effective 3/17/2021.

Filed Date: 4/7/21.

Accession Number: 20210407-5126.

Comments Due: 5 p.m. ET 4/28/21.

Docket Numbers: ER21-1631-000.

Applicants: PJM Interconnection, L.L.C.

Description: Tariff Cancellation: Notice of Cancellation of WMPA, SA No. 4842; Queue No. AC2-145 to be effective 3/17/2021.

Filed Date: 4/7/21.

Accession Number: 20210407-5127.

Comments Due: 5 p.m. ET 4/28/21.

Docket Numbers: ER21-1632-000.

Applicants: EcoPlus Power, LLC.

Description: Baseline eTariff Filing: Market-Based Rate Tariff Application to be effective 4/8/2021.

Filed Date: 4/7/21.

Accession Number: 20210407-5140.

Comments Due: 5 p.m. ET 4/28/21.

Docket Numbers: ER21-1633-000.

Applicants: Elk Hill Solar 2, LLC.

Description: Baseline eTariff Filing: Reactive Power Compensation Filing to be effective 4/8/2021.

Filed Date: 4/7/21.

Accession Number: 20210407-5143.

Comments Due: 5 p.m. ET 4/28/21.

Docket Numbers: ER21-1634-000.

Applicants: Southern California Edison Company.

Description: § 205(d) Rate Filing: ED&P Letter Agreement, VESI 12 LLC—Bottleneck Energy Storage, SA No. 1133 to be effective 4/8/2021.

Filed Date: 4/7/21.

Accession Number: 20210407-5179.

Comments Due: 5 p.m. ET 4/28/21.

Docket Numbers: ER21-1635-000.

Applicants: PJM Interconnection, L.L.C.

Description: § 205(d) Rate Filing: Black Start Revisions to Tariff, Schedule 6A to be effective 6/6/2021.

Filed Date: 4/7/21.

Accession Number: 20210407-5217.

Comments Due: 5 p.m. ET 4/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2021.
Nathaniel J. Davis, Sr.,
Deputy Secretary.

[FR Doc. 2021-07615 Filed 4-13-21; 8:45 am]

BILLING CODE 6717-01-P